DEPARTMENT OF THE INTERIOR

National Park Service

[NPS-WASO-NAGPRA-16762; PPWOCRADN0-PCU00RP14.R50000]

Notice of Inventory Completion: Nevada State Museum, Carson City, NV

AGENCY: National Park Service, Interior.

ACTION: Notice.

SUMMARY: The Nevada State Museum, Carson City (NSM) has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the NSM. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the NSM at the address in this notice by December 17, 2014.

ADDRESSES: Rachel K. Malloy, Anthropology Collections Manager and NAGPRA Coordinator, Nevada State Museum, 600 N. Carson Street, Carson City, NV 89701, telephone (775) 687-4810 x229, email rmalloy@nevadaculture.org.

SUPPLEMENTARY INFORMATION: Notice is here given in accordance with the Native American Graves Protection and Repatriation Act (NAGPRA), 25 U.S.C. 3003, of the completion of an inventory of human remains and associated funerary objects under the control of the NSM. The human remains and associated funerary objects were removed from the Charlie Gomes Site (26CH473), Churchill County, NV.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the NSM professional staff in consultation with representatives of the Paiute-Shoshone Tribe of the Fallon Reservation and Colony, Nevada.

History and Description of the Remains

In 1988, human remains representing, at minimum, two individuals were removed from the Charlie Gomes Site in Churchill County, NV. The site is located in the Carson Sink and on land held in trust by Churchill County. In the early 1980s, the Carson Sink was subjected to years of flooding and after the water receded, a section of the Charlie Gomes site was exposed. In June of 1988, a group of volunteers, including professional archeologists, surveyed the site and recovered human remains and associated funerary objects, which were then curated at the NSM.

Burial 1A represents one set of human remains of an adult of unknown sex. Burial 1B represents one set of human remains of a young adult, 16 to 23 years. The determination of sex on the young adult is not conclusive. No known individuals were identified. The 213 associated funerary objects are 56 shell fragments, 30 faunal bone fragments, 4 lithics, 4 ground stone fragments, 2 natural or fire cracked rocks, 1 seed, 1 bottle glass fragment, 5 soil samples, 2 ochre fragments, and 108 shell beads.

Determinations Made by the Nevada State Museum

Officials of the NSM have determined that:

• Pursuant to 25 U.S.C. 3001(9), the human remains described in this notice represent the physical remains of two individuals of Native American ancestry.

• Pursuant to 25 U.S.C. 3001(3)(A), the 213 objects described in this notice are reasonably believed to have been placed with or near individual human remains at the time of death or later as part of the death rite or ceremony.

• Pursuant to 25 U.S.C. 3001(2), there is a relationship of shared group identity that can be reasonably traced between the Native American human remains and associated funerary objects and the Paiute-Shoshone Tribe of the Fallon Reservation and Colony, Nevada.

Additional Requestors and Disposition

Lineal descendants or representatives of any Indian tribe or Native Hawaiian organization not identified in this notice that wish to request transfer of control of these human remains and associated funerary objects should submit a written request with information in support of the request to Rachel K. Malloy, Anthropology Collections Manager and NAGPRA Coordinator, Nevada State Museum, 600 N. Carson Street, Carson City, NV 89701, telephone (775) 687-4810 x229, email rmalloy@nevadaculture.org, by December 17, 2014. After that date, if no additional requestors have come forward, transfer of control of the human remains and associated funerary objects to Paiute-Shoshone Tribe of the Fallon Reservation and Colony, Nevada may proceed.

The NSM is responsible for notifying the Paiute-Shoshone Tribe of the Fallon Reservation and Colony, Nevada that this notice has been published.

Dated: September 22, 2014.
Sherry Hutt,
Manager, National NAGPRA Program.

[FR Doc. 2014-27148 Filed 11-14-14; 8:45 am]

BILLING CODE 4312-50-P